INTERNATIONAL TRADE COMMISSION

[Investigation No. 731-TA-1374-1376 (Final)]

Citric Acid and Certain Citrate Salts From Belgium, Colombia, and Thailand

Determination

On the basis of the record ¹ developed in the subject investigations, the United States International Trade Commission (“Commission”) determines, pursuant to the Tariff Act of 1930 (“the Act”), that an industry in the United States is materially injured by reason of imports of citric acid and certain citrate salts from Belgium, Colombia, and Thailand that have been found by the U.S. Department of Commerce (“Commerce”) to be sold in the United States at less than fair value (“LTFV”).2 3 4

¹ The record is defined in sec. 207.2(f) of the Commission's Rules of Practice and Procedure (19 CFR 207.2(f)).

² Citric Acid and Certain Citrate Salts from Thailand: Affirmative Final Determination of Sales at Less Than Fair Value and Final Affirmative Determination of Critical Circumstances in Part, 82 FR 25998, June 5, 2018; Citric Acid and Certain Citrate Salts from Belgium: Affirmative Final Determination of Sales at Less Than Fair Value, 82 FR 26001, June 5, 2018; Citric Acid and Certain Citrate Salts from Colombia: Affirmative Final Determination of Sales at Less Than Fair Value and Final Negative Determination of Critical Circumstances, 82 FR 26002, June 5, 2018.

³ The Commission also finds that imports subject to Commerce's affirmative critical circumstances determination are not likely to undermine seriously the remedial effect of the antidumping duty order on Thailand.

⁴ Commissioner Jason E. Kearns did not participate in these investigations.

Background

The Commission, pursuant to section 735(b) of the Act (19 U.S.C. 1673d(b)), instituted these investigations effective June 2, 2017, following receipt of a petition filed with the Commission and Commerce by Archer Daniels Midland Company, Decatur, Illinois; Cargill, Incorporated, Minneapolis, Minnesota; and Tate & Lyle Ingredients Americas, LLC, Hoffman Estates, Illinois. The Commission scheduled the final phase of the investigations following notification of a preliminary determination by Commerce that imports of citric acid and certain citrate salts from Belgium, Colombia, and Thailand were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 2, 2018 (83 FR 4922). The hearing was held in Washington, DC, on May 14, 2018, and all persons who requested the opportunity were permitted to appear in person or by counsel.

The Commission made these determinations pursuant to section 735(b) of the Act (19 U.S.C. 1673d(b)). It completed and filed its determinations in these investigations on July 10, 2018. The views of the Commission are contained in USITC Publication 4799 (July 2018), entitled Citric Acid and Certain Citrate Salts from Belgium, Colombia, and Thailand: Investigation Nos. 731-TA-1374-1376 (Final).

By order of the Commission.
Issued: July 10, 2018.
Lisa Barton,
Secretary to the Commission.

[FR Doc. 2018-15067 Filed 7-13-18; 8:45 am]

BILLING CODE 7020-02-P